DEPARTMENT OF THE INTERIOR

Bureau of Land Management

[LLAZ910000 L14300000.ET0000 LXSIURAM0000]

Public Land Order No. 7773; Emergency Withdrawal of Public and National Forest System Lands, Coconino and Mohave Counties; AZ

AGENCY: Bureau of Land Management, Interior.

ACTION: Public Land Order.

SUMMARY: This Order withdraws, subject to valid existing rights, approximately 1,010,776 acres of public and National Forest System lands from location and entry under the 1872 Mining Law for a period of 6 months under the Secretary's emergency withdrawal authority in section 204(e) of the Federal Land Policy and Management Act of 1976.

DATES: Effective date is July 21, 2011.

FOR FURTHER INFORMATION CONTACT: Scott Florence, District Manager, BLM Arizona Strip District, 435-688-3200.

Order

By virtue of the authority vested in the Secretary of the Interior by section 204 of the Federal Land Policy and Management Act of 1976, 43 U.S.C. 1714, and in accordance with subsection 204(e) of that Act, it is determined that an emergency situation exists and that extraordinary measures must be taken to preserve values that would otherwise be lost. It is therefore ordered as follows:

1. Subject to valid existing rights, the following described public lands are hereby withdrawn from location and entry under the 1872 Mining Law (30 U.S.C. 22 et seq.), to protect the Grand Canyon Watershed from adverse effects of locatable hardrock mineral exploration and mining:

Gila and Salt River Meridian

Tps. 28 to 31 N., R. 1 E.,

Tps. 40 and 41 N., R. 1 E.,

Tps. 28 to 30 N., R. 2 E.,

Tps. 27 to 30 N., Rs. 3 to 6 E.,

Tps. 37 to 40 N., R. 3 E.,

Tps. 36 and 37 N., Rs. 4 and 5 E.,

T. 38 N., Rs. 3 to 5 E.,

T. 37 N., R. 6 E.,

Tps. 38 and 39 N., R. 6 E.,

Tps. 39 and 40 N., R. 7 E.,

T. 31 N., R. 1 W.,

Tps. 38 to 41 N., R. 1 W.,

Tps. 38 to 40 N., R. 2 W.,

Tps. 36 to 40 N., R. 3 W.,

Tps. 35 to 40 N., Rs. 4 and 5 W.,

Tps. 35 to 39 N., Rs. 6 and 7 W.

The areas described above aggregate approximately 1,010,776 acres public and National Forest System lands in Coconino and Mohave Counties.

2. The withdrawal made by this Order does not alter the applicability of the public land laws other than the 1872 Mining Law (30 U.S.C. 22 et seq.).

3. This withdrawal will expire 6 months from the effective date of this Order.

Dated: June 21 2011.
Ken Salazar,
Secretary of the Interior.

[FR Doc. 2011-16056 Filed 6-27-11; 8:45 am]

BILLING CODE 4310-32-P